FEDERAL COMMUNICATIONS COMMISSION

47 CFR Part 73

[DA 00-2161; MM Docket No. 00-173, RM-9964]

Radio Broadcasting Services; Burgin, KY

AGENCY: Federal Communications Commission.

ACTION: Proposed rule.

SUMMARY: The Commission requests comments on a petition filed by Vernon R. Baldwin proposing the allotment of Channel 290A at Burgin, Kentucky, as the community's first local aural transmission service. Channel 290A can be allotted to Burgin in compliance with the Commission's minimum distance separation requirements with a site restriction of 5.01 kilometers (3.11 miles) southeast of city reference coordinates. The coordinates for Channel 290A at Burgin are 37-42-56 North Latitude and 84-44-08 West Longitude.

DATES: Comments must be filed on or before November 13, 2000, and reply comments on or before November 28, 2000.

ADDRESSES: Federal Communications Commission, Washington, DC 20554. In addition to filing comments with the FCC, interested parties should serve the petitioner, his counsel, or consultant, as follows, Dennis F. Begley, Esq., Reddy, Begley & McCormick, 2175 K Street, NW., Suite 350, Washington, DC 20037 (Counsel for Vernon R. Baldwin)

FOR FURTHER INFORMATION CONTACT: Arthur D. Scrutchins, Mass Media Bureau, (202) 418-2180.

SUPPLEMENTARY INFORMATION: This is a synopsis of the Commission's Notice of Proposed Rule Making, MM Docket No. 00-173; adopted September 13, 2000, and released September 22, 2000. The full text of this Commission decision is available for inspection and copying during normal business hours in the FCC Reference Information Center (Room CY-A257), 445 12th Street, SW, Washington, DC. The complete text of this decision may also be purchased from the Commission's copy contractor, International Transcription Service, Inc., (202) 857-3800, 1231 20th Street, NW., Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

Federal Communications Commission.
John A. Karousos,
Chief, Allocations Branch, Policy and Rules Division, Mass Media Bureau.

[FR Doc. 00-25394 Filed 10-3-00; 8:45 am]

BILLING CODE 6712-01-P